NUCLEAR REGULATORY COMMISSION

[Docket No. 50-443]

North Atlantic Energy Service Corporation, Seabrook Station, Unit No. 1; Environmental Assessment and Finding of No Significant Impact

The U.S. Nuclear Regulatory Commission (NRC) is considering issuance of an amendment to Facility Operating License No. NPF-86, issued to North Atlantic Energy Service Corporation (the licensee), for operation of the Seabrook Station, Unit No. 1, located in Rockingham County, New Hampshire. Therefore, as required by 10 CFR 51.21, the NRC is issuing this environmental assessment and finding of no significant impact.

Environmental Assessment

Identification of the Proposed Action

The proposed action would make administrative changes to Technical Specification Sections 1.9, Core Alteration; 1.14, Engineered Safety Features Response Time; and 1.29, Reactor Trip Response Time.

The proposed action is in accordance with the licensee's application dated August 6, 2001, as supplemented by letters dated November 2, 2001, and February 1, 2002.

The Need for the Proposed Action

The proposed action will allow the licensee to implement Technical Specification changes to support refueling outage 08, currently scheduled for spring 2002.

Environmental Impacts of the Proposed Action

The NRC has completed its evaluation of the proposed action and concludes that it has no environmental impact.

The proposed action will not significantly increase the probability or consequences of accidents, no changes are being made in the types of effluents that may be released off site, and there is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resource than those previously considered in the Final Environmental Statement for the Seabrook Station, Unit No. 1, dated December 1982.

Agencies and Persons Consulted

On February 13, 2001, the staff consulted with the New Hampshire State official, Mike Nawoj, of the New Hampshire Office of Emergency Management, and on February 19, 2002, the staff consulted with the Massachusetts State official, James Muckerheid, of the Massachusetts Emergency Management Agency, regarding the environmental impact of the proposed action. The State officials had no comments.

Finding of No Significant Impact

On the basis of the environmental assessment, the NRC concludes that the proposed action will not have a significant effect on the quality of the human environment. Accordingly, the NRC has determined not to prepare an environmental impact statement for the proposed action.

For further details with respect to the proposed action, see the licensee's letter dated August 6, 2001, as supplemented by letters dated November 2, 2001, and February 1, 2002. Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the internet at the NRC Web site, http://www.nrc.gov/reading-rm/adams/html. Persons who do not have access to ADAMS or who encounter problems in accessing the documents located in ADAMS, should contact the NRC PDR Reference staff by telephone at 1-800-397-4209 or 301-415-4737, or by e-mail to pdr@nrc.gov.

Dated at Rockville, Maryland, this 27th day of March 2002.
For the Nuclear Regulatory Commission.
George F. Wunder,
Project Manager, Section 2 Project Directorate I, Division of Licensing Project Management, Office of Nuclear Reactor Regulation.

[FR Doc. 02-8038 Filed 4-2-02; 8:45 am]

BILLING CODE 7590-01-P